DEPARTMENT OF COMMERCE

Foreign-Trade Zones Board

[B-9-2024]

Foreign-Trade Zone 98; Application for Subzone Expansion; Hyster-Yale Group, Inc.; Sulligent, Alabama

An application has been submitted to the Foreign-Trade Zones (FTZ) Board by the City of Birmingham, grantee of FTZ 98, requesting an expansion of Subzone 98D for the facility of Hyster-Yale Group, Inc. (Hyster-Yale), located in Sulligent, Alabama. The application was submitted pursuant to the provisions of the Foreign-Trade Zones Act, as amended (19 U.S.C. 81a-81u), and the regulations of the FTZ Board (15 CFR part 400). It was formally docketed on March 1, 2024.

The application requests authority to expand Subzone 98D to include the following new site: Site 3 (6.2 acres) is located at 7862 Highway 278, Sulligent, Alabama. No authorization for additional production activity has been requested at this time.

In accordance with the FTZ Board's regulations, Kolade Osho of the FTZ Staff is designated examiner to review the application and make recommendations to the FTZ Board.

Public comment is invited from interested parties. Submissions shall be addressed to the FTZ Board's Executive Secretary and sent to: ftz@trade.gov. The closing period for their receipt is April 15, 2024. Rebuttal comments in response to material submitted during the foregoing period may be submitted during the subsequent 15-day period to April 30, 2024.

A copy of the application will be available for public inspection in the “Online FTZ Information Section” section of the FTZ Board's website, which is accessible via www.trade.gov/ftz.

For further information, contact Kolade Osho at Kolade.Osho@trade.gov.

Dated: March 1, 2024.
Elizabeth Whiteman,
Executive Secretary.

[FR Doc. 2024-04746 Filed 3-5-24; 8:45 am]

BILLING CODE 3510-DS-P